DEPARTMENT OF THE INTERIOR

Fish and Wildlife Service

[FWS-R3-ES-2008-N0046; 30120-1113-0000 D3]

Post-Delisting Monitoring Plan for the Western Great Lakes Distinct Population Segment of the Gray Wolf (Canis lupus)

AGENCY: Fish and Wildlife Service, Interior.

ACTION: Notice of document availability.

SUMMARY: We, the U.S. Fish and Wildlife Service (Service), announce the availability of the Post-delisting Monitoring Plan for the Western Great Lakes Distinct Population Segment of the Gray Wolf (Canis lupus) (Monitoring Plan). The status of the Distinct Population Segment (DPS) will be monitored over a 5-year period from 2007 through 2012, through annual evaluation of information collected by three states, other partners, and the Service.

ADDRESSES: Copies of the Monitoring Plan are available by request from the Field Supervisor, U.S. Fish and Wildlife Service, 4101 E. 80th St., Bloomington, MN (telephone 612-725-3548; fax; 612-725-3609). This Monitoring Plan is also available on the World Wide Web at http://www.fws.gov/midwest/wolf/pdm/.

FOR FURTHER INFORMATION CONTACT: Phil Delphey, at the above Bloomington, MN address, or at phil_delphey@fws.gov, or at 612-725-3548, extension 206.

SUPPLEMENTARY INFORMATION:

Background

Section 4(g) of the Endangered Species Act (Act) instructs the Secretary to implement a system in cooperation with the states to monitor effectively for not less than five years the status of any species that is delisted due to recovery. The intent of this monitoring is to determine whether the species should be proposed for relisting under the normal listing procedures, relisted under the emergency listing authority of the Act, or kept off of the list because it remains neither threatened nor endangered. For the Western Great Lakes Distinct Population Segment of the Gray Wolf [71 FR15266; (March 27, 2006)], the Monitoring Plan focuses on reviewing and evaluating (1) Population characteristics of the DPS, (2) threats to the DPS, and (3) implementation of legal and management commitments that are important in reducing threats to the DPS or maintaining threats at sufficiently low levels.

For the delisted DPS, focusing the Monitoring Plan on these three aspects is necessary and sufficient to ensure that the DPS does not decrease to the point of again meeting the definition of threatened or endangered without an appropriate and timely response from the Service. Winter and late-winter estimates of wolf populations in Minnesota, Wisconsin, and Michigan have demonstrated that wolves in the DPS have surpassed their numerical recovery criteria for a sufficient period due to a reduction in threats over the last 25 years. The protection and management of wolves by states, tribes, and federal land management agencies will be critical in conserving the DPS. Since delisting, state and tribal laws and regulations have become the primary mechanism to protect wolves from their primary former threat—excessive human-caused mortality.

The Monitoring Plan for the DPS will be focused within the borders of Minnesota, Wisconsin, and the Upper Peninsula (UP) of Michigan, where wolf populations have attained the numerical recovery criteria specified in the Recovery Plan for the Eastern Timber Wolf. The delisting of the DPS was based on wolf recovery in those states. Therefore, it is not necessary to conduct intensive monitoring in other parts of the DPS. The Service is interested, however, in reviewing any data regarding the existence of individual wolves or wolf populations outside of the core recovery areas, especially in the Northern Lower Peninsula of Michigan. Additionally, the Service is interested in obtaining disease and parasite data from wolves found in other portions of the DPS that may suggest a new or increasing threat that may impact wolves in the core recovery areas.

On June 4, 2007, the Service announced the availability of its draft plan to monitor the WGLDPS of the Gray Wolf for public review and comment (72 FR 30819). After the comment period closed on July 5, 2007, the Service reviewed each comment received and prepared responses to substantive comments. The Service posted those comments and its responses on the internet—see http://www.fws.gov/midwest/wolf/pdm/.

Author

The primary author of this notice of document availability is Phil Delphey (see FOR FURTHER INFORMATION CONTACT section).

Authority: The authority for this action is the Endangered Species Act of 1973 (16 U.S.C. 1531 et seq.).

Dated: February 26, 2008.
Charlie Wooley,
Deputy Regional Director, Midwest Region.

[FR Doc. E8-7570 Filed 4-9-08; 8:45 am]

BILLING CODE 4310-55-P